DEPARTMENT OF ENERGY

Federal Energy Regulatory Commission

Combined Notice of Filings #1

Take notice that the Commission received the following electric corporate filings:

Docket Numbers: EC18-55-000.

Applicants: EAM Nelson Holding, LLC, Entergy Nuclear Generation Company, Entergy Nuclear Indian Point 2, LLC, Entergy Nuclear Indian Point 3, LLC, Entergy Nuclear Palisades, LLC, Entergy Nuclear Power Marketing, LLC, Entergy Power, LLC, EWO Marketing, LLC, RS Cogen, LLC.

Description: Joint application of EAM Nelson Holding, LLC, et al., for FPA Section 203 authorization.

Filed Date: 2/8/18.

Accession Number: 20180208-5155.

Comments Due: 5 p.m. ET 3/1/18.

Take notice that the Commission received the following electric rate filings:

Docket Numbers: ER18-193-001.

Applicants: Midcontinent Independent System Operator, Inc., Dairyland Power Cooperative.

Description: Compliance filing: 2018-02-09_Compliance filing of Dairyland Power Coop to update Attachment O-DPC to be effective 1/1/2018.

Filed Date: 2/9/18.

Accession Number: 20180209-5034.

Comments Due: 5 p.m. ET 3/2/18.

Docket Numbers: ER18-504-001.

Applicants: San Diego Gas & Electric Company.

Description: Tariff Amendment: SDGE 138KV SUBSTATION FACILITIES OPERATION AND MAINTENANCE AGREEMENT—Clone to be effective 12/22/2017.

Filed Date: 2/9/18.

Accession Number: 20180209-5154.

Comments Due: 5 p.m. ET 3/2/18.

Docket Numbers: ER18-591-001.

Applicants: Southwest Power Pool, Inc.

Description: Tariff Amendment: 2415R9 Kansas Municipal Energy Agency NITSA and NOA to be effective 12/1/2017.

Filed Date: 2/9/18.

Accession Number: 20180209-5087.

Comments Due: 5 p.m. ET 3/2/18.

Docket Numbers: ER18-829-000.

Applicants: Wisconsin Electric Power Company.

Description: § 205(d) Rate Filing: Revisions to Reactive Power Revenue Requirement to be effective 5/1/2018.

Filed Date: 2/8/18.

Accession Number: 20180208-5114.

Comments Due: 5 p.m. ET 3/1/18.

Docket Numbers: ER18-830-000.

Applicants: PJM Interconnection, L.L.C.

Description: Tariff Cancellation: Notice of Cancellation of WMPA SA No. 4187; Queue No. Z2-099/AA2-086 to be effective 3/26/2018.

Filed Date: 2/8/18.

Accession Number: 20180208-5131.

Comments Due: 5 p.m. ET 3/1/18.

Docket Numbers: ER18-831-000.

Applicants: Southwest Power Pool, Inc.

Description: § 205(d) Rate Filing: Revisions to Clarify Limitation of Liability for Attorney's Fees and Costs to be effective 4/10/2018.

Filed Date: 2/9/18.

Accession Number: 20180209-5026.

Comments Due: 5 p.m. ET 3/2/18.

Docket Numbers: ER18-832-000.

Applicants: Public Service Company of New Mexico.

Description: Initial rate filing: Executed Transmission Agreement between PNM and Avangrid Renewables, LLC to be effective 1/29/2018.

Filed Date: 2/9/18.

Accession Number: 20180209-5027.

Comments Due: 5 p.m. ET 3/2/18.

Docket Numbers: ER18-833-000.

Applicants: Evergreen Community Power, LLC.

Description: Petition of Evergreen Community Power, LLC For Waiver And Request For Expedited Action.

Filed Date: 2/9/18.

Accession Number: 20180209-5121.

Comments Due: 5 p.m. ET 3/2/18.

Docket Numbers: ER18-834-000.

Applicants: Midcontinent Independent System Operator, Inc.

Description: Request for extension of Tariff Waiver of Midcontinent Independent System Operator, Inc.

Filed Date: 2/9/18.

Accession Number: 20180209-5122.

Comments Due: 5 p.m. ET 3/2/18.

Docket Numbers: ER18-835-000.

Applicants: Midcontinent Independent System Operator, Inc.

Description: § 205(d) Rate Filing: 2018-02-09 Revisions to Attachment X NRIS Election Deadline to be effective 3/1/2018.

Filed Date: 2/9/18.

Accession Number: 20180209-5145.

Comments Due: 5 p.m. ET 3/2/18.

Docket Numbers: ER18-836-000.

Applicants: Energia Sierra Juarez U.S. 2, LLC.

Description: Baseline eTariff Filing: Energia Sierra Juarez U.S. 2, LLC Application for Market-Based Rates to be effective 4/10/2018.

Filed Date: 2/9/18.

Accession Number: 20180209-5153.

Comments Due: 5 p.m. ET 3/2/18.

Docket Numbers: ER18-838-000.

Applicants: California Independent System Operator Corporation.

Description: Compliance filing: 2018-02-09 Petition Limited Tariff Waiver—Availability Assessment Hours to be effective N/A.

Filed Date: 2/9/18.

Accession Number: 20180209-5155.

Comments Due: 5 p.m. ET 3/2/18.

Docket Numbers: ER18-839-000.

Applicants: Arizona Public Service Company.

Description: § 205(d) Rate Filing: Rate Schedule No. 290—Sun Valley Morgan Interconnection Agreement to be effective 4/11/2018.

Filed Date: 2/9/18.

Accession Number: 20180209-5157.

Comments Due: 5 p.m. ET 3/2/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 9, 2018.
Nathaniel J. Davis, Sr.,
Deputy Secretary.

[FR Doc. 2018-03378 Filed 2-16-18; 8:45 am]

BILLING CODE 6717-01-P